LEGAL SERVICES CORPORATION

Sunshine Act Meeting of the Finance Committee of the Board of Directors

Time and Date: The Finance Committee of the Board of Directors of the Legal Services Corporation will meet on January 23, 2003 via conference call. The meeting will begin at 3:00 p.m., E.S.T. and continue until the conclusion of the Committee's agenda.

Location: 750 First Street, NE, 11th Floor, Washington, DC 20002, in Room 11026.

Status of Meeting: Open, except that a portion of the meeting may be closed pursuant to a vote of the Board of Directors to hold an executive session. At the closed session, the Corporation's General Counsel will report to the Committee on litigation to which the Corporation is or may become a party, and the Committee may act on the matters reported. The closing is authorized by the relevant provisions of the Government in the Sunshine Act [5 U.S.C. 552b(c)(10)] and the corresponding provisions of the Legal Services Corporation's implementing regulation [45 CFR 1622.5(h)]. A copy of the General Counsel's Certification that the closing is authorized by law will be available upon request.

Matters to be Considered:

Open Session

1. Approval of agenda.

Closed Session

2. Consider and act on the General Counsel's report on potential and pending litigation involving LSC.

Open Session

3. Consider and act on other business.

4. Public Comment.

FOR FURTHER INFORMATION CONTACT: Victor M. Fortuno, Vice President for Legal Affairs, General Counsel & Corporate Secretary, at (202) 336-8800.

Special Needs: Upon request, meeting notices will be made available in alternate formats to accommodate visual and hearing impairments. Individuals who have a disability and need an accommodation to attend the meeting may notify Elizabeth Cushing, at (202) 336-8800.

Dated: January 16, 2003.
Victor M. Fortuno,
Vice President for Legal Affairs, General Counsel & Corporate Secretary.

[FR Doc. 03-1420 Filed 1-16-03; 3:59 pm]

BILLING CODE 7050-01-M